FEDERAL COMMUNICATIONS COMMISSION

[DA 00-1389]

800 MHz Specialized Mobile Radio (SMR) Service in the General Category Band (851-854 MHz) and Upper Band (861-865 MHz) Pre-Auction Seminar, Friday, July 7, 2000

AGENCY: Federal Communications Commission.

ACTION: Notice.

SUMMARY: This document announces a free pre-auction seminar scheduled for Friday, July 7, 2000. This seminar will provide information about pre-auction procedures, service and auction rules, conduct of the auction, and the FCC remote bidding software.

DATES: July 7, 2000.

FOR FURTHER INFORMATION CONTACT: Linda Sanderson of the Auctions Operations Branch at (717) 338-2888, or for Press Inquiries, Meribeth McCarrick at (202) 418-0654.

SUPPLEMENTARY INFORMATION: This is a summary of a Public Notice released June 23, 2000. The complete text of the public notice, including the registration form, is available for inspection and copying during normal business hours in the FCC Reference Center (Room CY-A257), 445 12th Street, SW, Washington, DC. It may also be purchased from the Commission's copy contractor, International Transcription Services, Inc. (ITS, Inc.) 1231 20th Street, NW, Washington, DC 20036, (202) 857-3800. It is also available on the Commission's web site at http://www.fcc.gov.

1. The free seminar for the 800 MHz Specialized Mobile Radio (SMR) Service (Auction No. 34) is scheduled for Friday, July 7, 2000. Interested parties must pre-register using the registration form or by calling the FCC's Auctions Hotline at (888)-225-5322, and select option #2, or (717) 338-2888.

2. The seminar will be held at the Federal Communications Commission, 445 12th Street SW, Washington, DC. Registration will begin at 8:30 a.m. and the program will end by 4:00 p.m.

Potential bidders in the auction are strongly encouraged to attend. This seminar provides an opportunity for hands-on demonstrations of the FCC filing and bidding software and access to the FCC staff responsible for the 700 MHz band licensing and auction conduct procedures. It is strongly advised that all potential bidders review the public notices released for this auction prior to the seminar.

3. The following is a timeline of the important events prior to the auction start date:

Deadline to register for Pre-Auction Seminar: July 6, 2000

Seminar Date: July 7, 2000

Short Form Application (FCC Form 175): July 17, 2000, 6:00 p.m. ET

Upfront Payments (via wire transfer): July 31, 2000, 6:00 p.m. ET

Orders for Remote Bidding Software: August 1, 2000, 5:30 p.m. ET

Mock Auction: August 14, 2000

Auction Start Date: August 16, 2000

Federal Communications Commission.
Louis J. Sigalos,
Deputy Chief, Auctions and Industry Division.

[FR Doc. 00-17252 Filed 7-6-00; 8:45 am]

BILLING CODE 6712-01-P